DEPARTMENT OF JUSTICE

Notice of Lodging of Consent Decree Pursuant to the Comprehensive Environmental Response, Compensation and Liability Act

In accordance with Departmental policy, 28 CFR 50.7, notice is hereby given that a proposed consent decree in United States v. Phillips Petroleum Company, et al., No. 3:00-CV-620-J-25c (M.D. Fla.) was lodged on November 19, 2001, with the United Stated District Court for the Middle District of Florida. The consent decree settles the United States' claims against numerous defendants, as well as counterclaims and third party claims against the United States, under sections 107 and 113 of the Comprehensive Environmental Response, Compensation, and Liability Act (“CERCLA”), 42 U.S.C. 9607 and 9613, for past response costs incurred in connection the Bill Johns Waste Oil Superfund Site in Jacksonville, Florida. Under the proposed decree the defendants, and the United States as a counter defendant, would reimburse the Superfund $1,450,000.00 out of $2,611,662.86 in past costs. The contribution of the settling federal agencies is $140,184.00.

The Department of Justice will receive, for a period of thirty (30) days from the date of this publication, comments relating to the proposed consent decree. Comments should be addressed to the Assistant Attorney General for the Environment and Natural Resources Division, Department of Justice, Washington, DC 20530, and should refer the United States v. Phillips Petroleum Company et al., No. 3:00-CV-620-J-25c (M.D. Fla.) and DOJ# 90-11-3-07139.

The proposed consent decree may be examined at the office of the United States Attorney, Middle District of Florida 200 W. Forsyth Street, Suite 700 Jacksonville, Florida 32201 and the Region 4 Office of the Environmental Protection Agency, 61 Forsyth Street, SW., Atlanta, GA 30303. A copy of the proposed consent decree may also be obtained by mail from the Consent Decree Library, PO Box 7611, Washington, DC 20044-7611. In requesting a copy please refer to the referenced case and enclose a check in the amount of $7.00 (25 cents per page reproduction costs), payable to the Consent Decree Library.

Ellen M. Mahan,
Assistant Section Chief, Environmental Enforcement Section, Environment and Natural Resources Division.

[FR Doc. 02-360 Filed 1-7-02; 8:45 am]

BILLING CODE 4410-15-M